FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants:

M & M Cargo Express, Corp., 338 NW. 12th Ave., Miami, FL 33128, Officer: Rommel M. Briceno, Corporate Officer (Qualifying Individual).

Masters Shipping, Inc., 10731 Sea Myrtle Drive, Houston, TX 77095, Officer: Luis Carranza, President (Qualifying Individual).

Maximo Martinez Inc., 66 Saint Peters Drive, Brentwood, NY 11717, Officer: Maximo Martinez, President (Qualifying Individual).

Non-Vessel—Operating Common Carrier and Ocean Freight Forwarder Transportation Intermediary Applicants:

Longron Corporation dba Time Logistics, 11728 Goldring Rd., #106, Arcadia, CA 91006, Officer: Chein Yun Chang, Officer (Qualifying Individual).

Explam Cargo, 9396 SW. 164 Court, Miami, FL 33196, Officer: Eyder A. Jimenez, President (Qualifying Individual).

International Alliance, Inc., 704 Magna Drive, Round Lake, IL 60073, Officers: Yelena Farber, Corporate Officer (Qualifying Individual), Yaroslav Farber, President.

American World Alliance, Inc., 3744 Industry Avenue, Suite 404, Lakewood, CA 90712, Officers: Rosemary Fletcher, Vice President (Qualifying Individual), R. Joseph Decker, Director.

Tarraf Inc., 21139 W 7 Mile Road, Detroit, MI 48219, Officers: Mohamad Tarraf, President (Qualifying Individual), Itaf A. Tarraf, Secretary.

Chumarks International Co., 5317 Church Avenue, 2nd Floor, Brooklyn, NY 11203, Chukwuma Imo Oka, Sole Proprietor.

Universal Transpacific Carrier, Inc., 114 Seaview Drive, Secaucus, NJ 07094, Officers: Timothy T. Murphy, Vice President of Sales (Qualifying Individual) Brian Posthumus, President.

The Padded Wagon Inc. dba Padded Wagon, 163 Exterior Street, Bronx, NY 10451, Officer: Edmond Dowling, Owner (Qualifying Individual).

De Well Container Shipping, Inc., 17800 Castleton Street, Suite 208, City of Industry, CA 91748, Officers: Zhen Huan Xiao, Vice President (Qualifying Individual), Yang Shi, President.

Allport (USA), Inc., 144 E. Javelin Street, Carson, CA 90745, Officer: Diadema Tajiri, President (Qualifying Individual).

Ocean Freight Forwarder—Ocean Transportation Intermediary Applicants:

Fermar Forwarding, L.L.C., 5565 SW. 2nd Street, Miami, FL 33134, Officer: Maria A. Fernandez, Member (Qualifying Individual).

U & S Shipping, Inc., 2610 Little Hill Cove, Unit 106, Oviedo, FL 32765, Officers: Mohammed A. Haseeb, President (Qualifying Individual), Zikra Mohsin, Treasurer.

Mtek International, 26888 Arcadia Drive, Flat Rock, MI 48143, Guomei Ma, Sole Proprietor.

ATC Cargo Inc., 8851 NW. 102nd Street, Medley, FL 33178, Officer: Luciano Campos, President (Qualifying Individual).

Bonado Direct Inc., 104-10 37th Avenue, Corona, NY 11368, Officers: Rafael Cespedes, President (Qualifying Individual), Jose C. Batista, Treasurer.

Pacific Crating and Shipping LLC, 1088 Revere Avenue, San Francisco, CA 94124, Officers: Arturo J. Pena, General Manager (Qualifying Individual), Luis A. Alvarado, Operations Manager.

Dated: May 6, 2005.
Bryant L. VanBrakle,
Secretary.

[FR Doc. 05-9414 Filed 5-10-05; 8:45 am]

BILLING CODE 6730-01-P